FEDERAL COMMUNICATIONS COMMISSION

47 CFR Part 79

[MM Docket No. 9-339; FCC 00-258]

Implementation of Video Description of Video Programming

AGENCY: Federal Communications Commission.

ACTION: Final rule; announcement of effective date.

SUMMARY: In this document, the Commission announces that the Office of Management and Budget (OMB) approved the information collection requirements contained in the Implementation of Video Description of Video Programming, Report and Order. The information collections contained in the Report and Order were approved by OMB on February 1, 2001.

DATES: 47 CFR 79.2, published at 65 FR 26757 (May 9, 2000), became effective August 29, 2000, at 65 FR 54176 (September 7, 2000). The revisions to 47 CFR 79.2 (a)(1), (b)(1) and (b)(3), published at 65 FR 54811 (September 11, 2000) became effective February 1, 2001.

FOR FURTHER INFORMATION CONTACT: Amelia Brown, Disability Rights Office, Consumer & Governmental Affairs Bureau, at (202) 418-2799 (voice) or (202) 418-0537 (TTY).

SUPPLEMENTARY INFORMATION: This document announces that OMB approved the information collection requirements contained in the Implementation of Video Description of Video Programming, Report and Order, FCC 00-258, published at 65 FR 54811 (September 11, 2000). The information collections were approved by OMB on February 1, 2001. OMB Control Number 3060-0967. The Commission publishes this notice of the effective date of the rules. To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received approval from OMB on February 1, 2001, for the collections of information contained in the Implementation of Video Description of Video Programming Report and Order, FCC 00-258. The total annual reporting burden associated with these collections of information, including the time for gathering and maintaining the collections of information, was estimated to be: 200 respondents, a total annual hourly burden of 275 hours, and $5,000 total annual costs. Under 5 CFR 1320, an agency may not conduct or sponsor a collection of information unless it displays a current valid OMB Control Number.

No person shall be subject to any penalty for failing to comply with a collection of information subject to the Paperwork Reduction Act that does not display a valid OMB Control Number. The foregoing notice is required by the Paperwork Reduction Act of 1995, Public Law 104-13, October 1, 1995, 44 U.S.C. 3507.

List of Subjects in 47 CFR Part 79

Cable television, multi-channel video programming distributors (MVPDs), satellite television service providers, television broadcasters.

Federal Communications Commission.
Marlene H. Dortch,
Secretary.

[FR Doc. 05-19518 Filed 9-27-05; 8:45 am]

BILLING CODE 6712-01-P